DEPARTMENT OF LABOR

Employment and Training Administration

[TA-W-52,411]

Elastic Corporation of America, Inc., Asheboro, NC; Notice of Termination of Investigation

Pursuant to Section 221 of the Trade Act of 1974, as amended, an investigation was initiated on July 28, 2003 in response to a worker petition filed by a company official on behalf of workers at Elastic Corporation of America, Inc., Asheboro, North Carolina.

The petitioner has requested that the petition be withdrawn. Consequently, the investigation has been terminated.

Signed at Washington, DC this 21st day of August, 2003.
Elliott S. Kushner,
Certifying Officer, Division of Trade Adjustment Assistance.

[FR Doc. 03-23725 Filed 9-16-03; 8:45 am]

BILLING CODE 4510-30-P